DEPARTMENT OF COMMERCE

International Trade Administration

[A-580-825]

Oil Country Tubular Goods, Other Than Drill Pipe, From Korea: Rescission of Antidumping Duty Administrative Review

AGENCY: Import Administration, International Trade Administration, U.S. Department of Commerce.

SUMMARY: The Department initiated an administrative review of oil country tubular goods, other than drill pipe, from Korea for the period of review (POR) August 1, 2001, to July 31, 2002, in response to a timely request from SeAH Steel Corporation (SeAH) and for the period August 1, 2001, to July 31, 2002, in response to a timely request from Husteel Co., Ltd. (Husteel). SeAH and Husteel Co., Ltd., each the only party to request an administrative review of its respective sales, submitted timely withdrawals of requests for review. As such, the Department is rescinding this administrative review.

EFFECTIVE DATE: February 7, 2003.

FOR FURTHER INFORMATION CONTACT: Thomas Gilgunn at (202) 482-4236, Import Administration, International Trade Administration, U.S. Department of Commerce, 14th Street and Constitution Avenue, N.W., Washington, DC 20230.

SUPPLEMENTARY INFORMATION:

Background

On August 11, 1995, the Department published in the Federal Register an antidumping duty order on OCTG from Korea (60 FR 41057). On August 30, 2002, SeAH and Husteel each filed a timely request that the Department conduct an administrative review of its respective sales. No other parties requested a review of SeAH or Husteel. On September 25, 2002, the Department initiated an administrative review of SeAH and Husteel under the antidumping duty order on OCTG from Korea. See Initiation of Antidumping and Countervailing Duty Administrative Reviews, 67 FR 60210 (September 25, 2002). In accordance with section 351.213(d)(1) of the regulations, Husteel timely withdrew its request for review on October 16, 2002 and SeAH timely withdrew its request for review on November 25, 2002.

Rescission of Review

Pursuant to our section 351.213(d)(1) of the regulations, the Department will rescind an administrative review, “if a party that requested the review withdraws the request within 90 days of the date of publication of notice of initiation of the requested review.” Since the only parties that requested and administrative review timely withdrew their request for review, we are rescinding this administrative review for the period August 1, 2001, to July 31, 2002, for SeAH and for the period August 1, 2002, to July 31, 2002, for Husteel. The Department will issue appropriate assessment instructions to the U.S. Customs Service.

Dated: January 31, 2003.
Joseph A. Spetrini,
Deputy Assistant Secretary for Import Administration, Group III.

[FR Doc. 03-3089 Filed 2-6-03; 8:45 am]

BILLING CODE 3510-DS-S